DEPARTMENT OF AGRICULTURE

Forest Service

Klamath National Forest; California; Crawford Vegetation Management Project

AGENCY: Forest Service, USDA.

ACTION: Withdrawal of notice of intent to prepare an environmental impact statement.

SUMMARY: The Klamath National Forest is withdrawing the Notice of Intent (NOI) to prepare an Environmental Impact Statement (EIS) for the Crawford Vegetation Management Project. The original NOI was published in the Federal Register on January 27, 2014 (79 FR 4323). Upon further evaluation, there are no expected significant impacts to the human environment associated with the project. As a result, the Klamath National Forest is now preparing an environmental assessment (EA). All comments previously received regarding this project will be retained and considered in the development of the EA. If it is determined that the project may have significant impacts, the EIS process will be reinitiated and a NOI will be published.

FOR FURTHER INFORMATION CONTACT: Questions concerning this notice and requests to be added to the project mailing list should be directed to Lisa Bousfield, Happy Camp/Oak Knoll Ranger District, 63822 State Highway 96, P.O. Box 377, Happy Camp, CA 96039; by telephone at (530) 493-1766; or via email at lbousfield@fs.fed.us.

Individuals who have previously submitted comments on this project will remain on the project mailing list and do not need to contact the Forest.

Dated: December 4, 2018.
Jennifer Eberlien,
Acting Associate Deputy Chief, National Forest System.

[FR Doc. 2018-27970 Filed 12-26-18; 8:45 am]

BILLING CODE 3411-15-P